DEPARTMENT OF TRANSPORTATION

Federal Highway Administration

Buy America Waiver Notification

AGENCY: Federal Highway Administration (FHWA), DOT.

ACTION: Notice.

SUMMARY: This notice provides information regarding the FHWA's finding that a Buy America waiver is appropriate for certain steel products used in Federal-aid construction projects in New York and Rhode Island.

DATES: The effective date of the waiver is October 7, 2008.

FOR FURTHER INFORMATION CONTACT: For questions about this notice, please contact Mr. Gerald Yakowenko, FHWA Office of Program Administration, (202) 366-1562, gerald.yakowenko@dot.gov. For legal questions, please contact Mr. Michael Harkins, FHWA Office of the Chief Counsel, (202) 366-4928, michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate for two specific cases.

In accordance with section 130 of Division K of the “Consolidated Appropriations Act, 2008” (Pub. L. 110-161), the FHWA published on its Web site a notice of intent to issue a waiver for Center Pivot Bearing Assembly in New York http://www.fhwa.dot.gov/construction/contracts/waivers.cfm?id=14 on July 14, and stainless steel clad reinforcing bars (for experimental research) in Rhode Island http://www.fhwa.dot.gov/construction/contracts/waivers.cfm?id=18 on August 12. The FHWA received a comment in response to Center Pivot Bearing Assembly which suggested that the Center Pivot Bearing may be available domestically. Further investigation and inquiry revealed that the product is not available domestically. Some comments received in response to stainless steel clad rebars suggested that solid stainless rebar should be used, and that stainless clad rebar may be more expensive than solid stainless rebar. Other commenters disagreed with this position. The Rhode Island DOT's waiver request is to evaluate the stainless clad reinforcing bars under an experimental project. During the 15-day comment period, the FHWA conducted additional nationwide review to locate potential domestic manufacturers for the products. Based on all the information available to the Agency including the responses received to the notices as well as the Agency's nationwide review, the FHWA concludes that there are no domestic manufacturers for these products and a Buy America waiver is appropriate as provided by 23 CFR 635.410(c)(1).

In accordance with the provisions of section 117 of the SAFETEA-LU Technical Corrections Act of 2008 (Pub. L. 110-244, 122 Stat.1572), the FHWA is providing this notice as its finding that a waiver of Buy America requirements is appropriate. The FHWA invites public comment on this finding for an additional 15 days following the effective date of the finding. Comments may be submitted to the FHWA's Web site via the links above to the New York and Rhode Island waiver pages noted above.

(Authority: 23 U.S.C. 313; Pub. L. 110-161, 23 CFR 635.410)

Issued on: September 29, 2008.
Thomas J. Madison, Jr.
Federal Highway Administrator.

[FR Doc. E8-23574 Filed 10-3-08; 8:45 am]

BILLING CODE 4910-22-P